DEPARTMENT OF LABOR

Mine Safety and Health Administration

Proposed Information Collection Request Submitted for Public Comment and Recommendations; Noise Exposure Assessment; Audiometric Testing, Evaluation, and Records and Training in All Mines

ACTION: Notice.

SUMMARY: The Department of Labor, as part of its continuing effort to reduce paperwork and respondent burden conducts a preclearance consultation program to provide the general public and Federal agencies with an opportunity to comment on the continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before December 9, 2008.

ADDRESSES: Send comments to U.S. Department of Labor, Mine Safety and Health Administration, Debbie Ferraro, Management Services Division, 1100 Wilson Boulevard, Room 2141, Arlington, VA 22209-3939. Commenters are encouraged to send their comments on a computer disk, or via Internet E-mail to Ferraro.Debbie@dol.gov, along with an original printed copy. Ms. Ferraro can be reached at (202) 693-9821 (voice), or (202) 693-9801 (facsimile).

FOR FURTHER INFORMATION CONTACT: Contact the employee listed in the ADDRESSES section of this notice.

SUPPLEMENTARY INFORMATION:

I. Background

Noise is one of the most pervasive health hazards in mining. Exposure to hazardous sound levels results in the development of occupational noise-induced hearing loss (NIHL), a serious physical, psychological, and social problem. NIHL can be distinguished from aging and medical factors, diagnosed, and prevented. NIHL is among the “top ten” leading occupational diseases and injuries.

For many years, the risk of acquiring an NIHL was accepted as an inevitable consequence associated with mining occupations. Miners use mechanized equipment and work under conditions that often expose them to hazardous sound levels. But MSHA standards, OSHA standards, military standards, and others around the world have been established in recognition of the controllability of this risk. Records of miner exposures are necessary so that mine operators and MSHA can evaluate the need for and effectiveness of engineering controls, administrative controls, and personal protective equipment to protect miners from harmful levels of exposure.

II. Desired Focus of Comments

Currently, the Mine Safety and Health Administration (MSHA) is soliciting comments concerning the proposed extension of the information collection related to the Noise Exposure Assessment; Audiometric Testing, Evaluation, and Records and Training in all Mines. MSHA is particularly interested in comments that:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the ADDRESSES section of this notice or viewed on the internet by accessing the MSHA home page (http://www.msha.gov/) and selecting “Rules and Regs”, and then selecting “Fed Reg Docs.”

III. Current Actions

Records of miner exposures are necessary so that mine operators and MSHA can ensure that engineering controls, administrative controls, and personal protective equipment are used to protect miners from harmful levels of exposure. However, the Agency believes that extensive records for this purpose now maintained by the coal mining sector are not needed, Part 62 replaced these requirements with a performance-oriented approach to monitoring. The final rule expanded notification of exposure information to miners to assist them in becoming more active participants in hearing conservation efforts.

Hearing tests of miners are offered and if a miner takes the test mine operators are required to compile and maintain a record of each audiometric test. Detection of a hearing loss can trigger certain protective actions under Part 62. The record will be used by mine operators and MSHA to verify that the testing was done and the required actions implemented. Part 62 also requires the mine operator to provide training to overexposed miners about the hazards of noise exposure, hearing protector selection and use, the hearing test program, and the operator's noise controls. Records of training are needed to confirm that miners receive the information they need to become active participants in hearing conservation efforts. There is no existing requirement for such records; however, training records required under other MSHA regulations are used for similar purposes.

Type of Review: Extension.

Agency: Mine Safety and Health Administration.

Title: Noise exposure assessment; audiometric testing, evaluation, and records and training in all mines.

OMB Number: 1219-0120.

Affected Public: Business or other for-profit institutions.

Respondents: 14,726.

Responses: 764,753.

Burden Hours: 84,146.

Total Burden Cost (operating/maintaining): $5,472,084.

Comments submitted in response to this notice will be summarized and/or included in the request for Office of Management and Budget approval of the information collection request; they will also become a matter of public record.

Dated at Arlington, Virginia, this 2nd day of October 2008.
David L. Meyer,
Director, Office of Administration and Management.

[FR Doc. E8-24038 Filed 10-9-08; 8:45 am]

BILLING CODE 4510-43-P